INTERNATIONAL TRADE COMMISSION

[Investigation No. 337-TA-639]

In the Matter of Certain Spa Cover Lift Frames; Notice of a Commission Determination Not To Review an Initial Determination Amending the Complaint and Notice of Investigation and Terminating a Respondent on the Basis of a Consent Order Stipulation and Consent Order; Issuance of Consent Order; Termination of Investigation

AGENCY: U.S. International Trade Commission.

ACTION: Notice.

SUMMARY: Notice is hereby given that the U.S. International Trade Commission has determined not to review an initial determination (“ID”) of the presiding administrative law judge (“ALJ”) in the above-captioned investigation amending the complaint and notice of investigation and terminating a respondent on the basis of a consent order stipulation and consent order. The Commission has also determined to issue the subject consent order. The investigation is terminated.

FOR FURTHER INFORMATION CONTACT: Michael K. Haldenstein, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal at (202) 205-1810.

SUPPLEMENTARY INFORMATION: This investigation was instituted on March 24, 2008, based on a complaint filed by Leisure Concepts, Inc. (“Leisure Concepts”) of Spokane, Washington. The complaint alleged violations of section 337 of the Tariff Act of 1930 (19 U.S.C. 1337) in the importation into the United States, the sale for importation, and the sale within the United States after importation of certain spa cover lift frames that infringe the claims of U.S. Patent No. 5,996,137. The complaint further alleged that an industry in the United States exists as required by subsection (a)(2) of section 337. The complainant requested that the Commission issue an exclusion order and cease and desist orders barring future importation and sale of the accused products. The Commission named the following companies as respondents: Pool Mart, Inc. of Depew, New York; Islander Pool and Spas, Inc. of Albany, New York; Glaser Enterprises, Inc. of Virginia Beach, Virginia; ACE Swim Service of Chili, Inc. of Rochester, New York; Sparco, Ltd. a/k/a Sparco Buying Group of Albany, New York; and Kokido, Ltd. of Kowloon, Hong Kong. The ALJ set June 24, 2009, as the target date for completion of the investigation. The investigation has previously been terminated as to all respondents except Kokido, Ltd.

On May 19, 2008, Kokido Trading, Ltd. filed a motion seeking to terminate the investigation as to itself based upon a consent order stipulation and proposed consent order. Complainant opposed the motion; the Commission investigative attorney supported the motion.

The ALJ issued the subject ID (Order No. 8) on September 26, 2008, amending the complaint and notice of investigation to name Kokido Trading, Ltd. as the proper respondent rather than Kokido, Ltd. The ID also terminated the investigation with respect to Kokido Trading, Ltd. on the basis of a consent order stipulation and proposed consent order. No petitions for review of the ID were filed. The Commission has determined not to review the ID and to issue the proposed consent order. Since Kokido Trading, Ltd. is the last respondent, the investigation is terminated in its entirety.

This action is taken under the authority of section 337 of the Tariff Act of 1930, as amended, 19 U.S.C. 1337, and Commission rules 210.21, 210.42, 19 CFR 210.21, 210.42.

Dated: Issued: October 22, 2008.
By order of the Commission.
Marilyn R. Abbott,
Secretary to the Commission.

[FR Doc. E8-25543 Filed 10-24-08; 8:45 am]

BILLING CODE 7020-02-P